ENVIRONMENTAL PROTECTION AGENCY

40 CFR Part 300

[FRL-6869-5]

National Oil and Hazardous Substances; Pollution Contingency Plan; National Priorities List

AGENCY: Environmental Protection Agency (EPA).

ACTION: Proposed direct final deletion of the Cliff/Dow Dump Superfund Site (Site) from the National Priorities List (NPL).

SUMMARY: The EPA proposes to delete the Cliff/Dow Dump Superfund site (Site) from the NPL and requests public comment on this action. The NPL constitutes appendix B to part 300 of the National Oil and Hazardous Substances Pollution Contingency Plan (NCP), which EPA promulgated pursuant to section 105 of the Comprehensive Environmental Response, Compensation, and Liability Act of 1980 (CERCLA) as amended. EPA has determined that the Site currently poses no significant threat to public health or the environment, as defined by CERCLA, and therefore, further remedial measures under CERCLA are not appropriate. We are publishing this proposed rule without prior notification because the Agency views this as a noncontroversial revision and anticipates no dissenting comments. A detailed rationale for this proposal is set forth in the direct final rule published elsewhere in this issue of the Federal Register. If no dissenting comments are received, the deletion will become effective. If EPA receives dissenting comments, the direct final action will be withdrawn and all public comments received will be addressed in a subsequent final rule based on this proposed rule. EPA will not institute a second comment period. Any parties interested in commenting should do so at this time.

DATES: Comments concerning this action must be received by October 18, 2000.

ADDRESSES: Comments may be mailed to Kenneth Glatz, Remedial Project Manager, or Gladys Beard, Associate Remedial Project Manager, U.S. Environmental Protection Agency (SR-6J), 77 W. Jackson, Chicago, IL 60604. Comprehensive information on this Site is available through the public docket which is available for viewing at the Site Information Repositories at the following locations: U.S. EPA Region 5, Administrative Records, 77 W. Jackson Boulevard, Chicago, Il 60604 (312)-886-0900, the Peter White Public Library, 217 N. Front St., Marquette, MI 49855, until September 22, 2000, the University, Quad 2 Central Area After September 22 and the Michigan Department of Environmental Quality, Knapps Center, Lansing, Michigan 48933.

FOR FURTHER INFORMATION CONTACT: Kenneth Glatz Remedial Project Manager, at (312) 886-1434 or Gladys Beard Associate Remedial Project Manager at (312) 886-7253, or Bruce VanOtteren, Michigan Department of Environmental Quality, P.O. Box 30426, Lansing, MI, 48909. Written correspondence can be directed to Ms. Beard at U.S. Environmental Protection Agency, (SR-6J) 77 W. Jackson Blvd., Chicago, IL 60604.

SUPPLEMENTARY INFORMATION: For additional information, see the Direct Final Action which is located in the Rules section of this Federal Register.

Authority: 42 U.S.C. 9601-9657; 33 U.S.C. 1321 (c) (2); E.O. 12777, 56 FR 54757, 3 CFR, 1991 Comp.; p. 351; E.O. 12580, 52 FR 2923, 3 CFR, 1987 Comp.; p. 193.

Dated: September 6, 2000.
David A. Ullrich,
Acting Regional Administrator, Region V.

[FR Doc. 00-23642 Filed 9-15-00; 8:45 am]

BILLING CODE 6560-50-P